DEPARTMENT OF COMMERCE

International Trade Administration

[A-351-809, A-201-805; A-580-809, A-583-814 and A-583-008]

Certain Circular Welded Non-Alloy Steel Pipe From Brazil, Mexico, the Republic of Korea, and Taiwan and Certain Circular Welded Carbon Steel Pipes and Tubes From Taiwan: Final Results of Expedited Fourth Sunset Reviews of the Antidumping Duty Orders

AGENCY: Enforcement and Compliance, International Trade Administration, Department of Commerce.

DATES: Applicable October 6, 2017.

SUMMARY: As a result of these sunset reviews, the Department of Commerce (the Department) finds that revocation of the antidumping duty orders on certain circular welded non-alloy steel pipe from Brazil, Mexico, the Republic of Korea, and Taiwan and certain circular welded carbon steel pipes and tubes from Taiwan would be likely to lead to continuation or recurrence of dumping. The magnitude of the dumping margins likely to prevail are indicated in the “Final Results of Sunset Review” section of this notice.

FOR FURTHER INFORMATION CONTACT: Jacqueline Arrowsmith, AD/CVD Operations, Office VII, Enforcement and Compliance, U.S. Department of Commerce, 1401 Constitution Avenue NW., Washington, DC 20230; telephone (202) 482-5255.

SUPPLEMENTARY INFORMATION:

Background

On May 7, 1984, the Department published the AD Order on certain circular welded carbon steel pipes and tubes from Taiwan.¹ On November 2, 1992, the Department published the AD Orders on imports of certain circular welded non-alloy steel pipe from Brazil, the Republic of Korea (Korea), Mexico, and Taiwan, and an amendment to the final determination of sales at less than fair value for certain circular welded non-alloy steel pipe from Korea.² On July 17, 2012, the Department published the notice of continuation of these AD Orders.³

¹ See Certain Circular Welded Carbon Steel Pipes and Tubes from Taiwan: Antidumping Order, 49 FR 19369 (May 7, 1984).

² See Notice of Antidumping Duty Orders: Certain Circular Non-Alloy Steel Pipe from Brazil, the Republic of Korea (Korea), Mexico, and Venezuela and Amendment to Final Determination of Sales at Less Than Fair Value: Certain Circular Welded Non-Alloy Steel Pipe from Korea, 57 FR 49453 (November 2, 1992) (Orders for Brazil, Korea, Mexico, and Venezuela and Amended Final Determination of Sales at Less Than Fair Value: Certain Circular Welded Non-Alloy Steel Pipe from Korea).

³ See Certain Circular Welded Carbon Steel Pipes and Tubes from India, Thailand, and Turkey; Certain Circular Welded Non-Alloy Steel Pipe from Brazil, Mexico, the Republic of Korea, and Taiwan, and Certain Circular Welded Carbon Steel Pipes and Tubes from Taiwan: Continuation of Antidumping and Countervailing Duty Orders, 77 FR 41967 (July 17, 2012) (Third Continuation of the AD and CVD Orders).

On June 2, 2017, the Department published the notice of initiation of the sunset reviews of the AD Orders on circular welded non-alloy steel pipe from Brazil, Mexico, Korea, and certain circular welded carbon steel pipes and tubes from Taiwan.⁴ The AD Order on certain circular welded non-alloy steel pipe from Taiwan was inadvertently not included in the initiation notice. On June 16, 2017, the Department published a correction notice.⁵

⁴ See Initiation of Five-Year (“Sunset”) Reviews, 82 FR 25599 (June 2, 2017).

⁵ See Initiation of Five-Year (“Sunset”) Review; Correction, 82 FR 27690 (June 16, 2017).

On June 30, 2017, the Department received complete substantive responses to the notices of initiation from domestic interested parties within the 30-day deadline specified in 19 CFR 351.218(d)(3)(i). The Department received no substantive responses from respondent interested parties. As a result, the Department conducted an expedited, i.e., 120-day, sunset review of these AD Orders pursuant to section 751(c)(3)(B) of the Act and 19 CFR 351.218(e)(1)(ii)(C)(2).

Scope of the Orders

Certain Circular Welded Non-Alloy Steel Pipe From Brazil

The products covered by these orders are circular welded non-alloy steel pipes and tubes, of circular cross-section, not more than 406.4 mm (16 inches) in outside diameter, regardless of wall thickness, surface finish (black, galvanized, or painted), or end finish (plain end, beveled end, threaded, or threaded and coupled). These pipes and tubes are generally known as standard pipes and tubes are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of these orders, except line pipe, oil country tubular goods, boiler tubing, mechanical tubing, pipe and tube hollows for redraws, finished scaffolding, and finished conduit. Standard pipe that is dual or triple certified/stenciled that enters the U.S. as line pipe of a kind used for oil or gas pipelines is also not included in these orders. The Issues and Decision Memorandum, which is hereby adopted by this notice, provides a full description of the scope of the order.⁶

⁶ See Department Memorandum, “Issues and Decision Memorandum: Final Results of Expedited Fourth Sunset Reviews of the Antidumping Duty Orders on Certain Circular Welded Non-Alloy Steel Pipe from Brazil, Mexico, the Republic of Korea, and Taiwan and Certain Circular Welded Carbon Steel Pipes and Tubes from Taiwan,” dated concurrently with this Federal Register notice (Issues and Decision Memorandum).

Certain Circular Welded Non-Alloy Steel Pipe From Mexico

The products covered by this order are circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of this order, except line pipe, oil country tubular goods, boiler tubing, mechanical tubing, pipe and tube hollows for redraws, finished scaffolding, and finished conduit. Standard pipe that is dual or triple certified/stenciled that enters the U.S. as line pipe of a kind used for oil or gas pipelines is also not included in this order.

Certain Circular Welded Non-Alloy Steel Pipe From Korea

The merchandise subject to this review is circular welded non-alloy steel pipe and tube, of circular cross-section, not more than 406.4 mm (16 inches) in outside diameter, regardless of wall thickness, surface finish (black, galvanized, or painted), or end finish (plain end, beveled end, threaded, or threaded and coupled). These pipes and tubes are generally known as standard pipes and tubes and are intended for the low-pressure conveyance of water, steam, natural gas, air, and other liquids and gases in plumbing and heating systems, air-conditioning units, automatic sprinkler systems, and other related uses. Standard pipe may also be used for light load-bearing applications, such as for fence tubing, and as structural pipe tubing used for framing and as support members for reconstruction or load-bearing purposes in the construction, shipbuilding, trucking, farm equipment, and other related industries. Unfinished conduit pipe is also included in this order. All carbon-steel pipes and tubes within the physical description outlined above are included within the scope of this review except line pipe, oil-country tubular goods, boiler tubing, mechanical tubing, pipe and tube hollows for redraws, finished scaffolding, and finished conduit. In accordance with the Department's Final Negative Determination of Scope Inquiry on Certain Circular Welded Non-Alloy Steel Pipe and Tube from Brazil, the Republic of Korea, Mexico, and Venezuela (61 FR 11608, March 21, 1996), pipe certified to the API 5L line-pipe specification and pipe certified to both the API 5L line-pipe specifications and the less-stringent ASTM A-53 standard-pipe specifications, which falls within the physical parameters as outlined above, and entered as line pipe of a kind used for oil and gas pipelines is outside of the scope of the antidumping duty order.

Certain Circular Welded Non-Alloy Steel Pipe From Taiwan

The products covered by this order are (1) circular welded non-alloy steel pipes and tubes, of circular cross section over 114.3 millimeters (4.5 inches), but not over 406.4 millimeters (16 inches) in outside diameter, with a wall thickness of 1.65 millimeters (0.065 inches) or more, regardless of surface finish (black, galvanized, or painted), or end-finish (plain end, beveled end, threaded, or threaded and coupled); and (2) circular welded non-alloy steel pipes and tubes, of circular cross-section less than 406.4 millimeters (16 inches), with a wall thickness of less than 1.65 millimeters (0.065 inches), regardless of surface finish (black, galvanized, or painted) or end-finish (plain end, beveled end, threaded, or threaded and coupled). These pipes and tubes are generally known as standard pipes and tubes and are intended for the low pressure conveyance of water, steam, natural gas, air, and other liquids and gases in plumbing and heating systems, air conditioning units, automatic sprinkling systems, and other related uses, and generally meet ASTM A-53 specifications. Standard pipe may also be used for light load-bearing applications, such as for fence-tubing and as structural pipe tubing used for framing and support members for construction, or load-bearing purposes in the construction, shipbuilding, trucking, farm-equipment, and related industries. Unfinished conduit pipe is also included in this order.

All carbon steel pipes and tubes within the physical description outlined above are included within the scope of this order, except line pipe, oil country tubular goods, boiler tubing, mechanical tubing, pipe and tube hollows for redraws, finished scaffolding, and finished conduit. Standard pipe that is dual or triple certified/stenciled that enters the U.S. as line pipe of a kind or used for oil and gas pipelines is also not included in this investigation.

Certain Circular Welded Carbon Steel Pipes and Tubes From Taiwan

The merchandise covered by this order is certain circular welded carbon steel pipes and tubes from Taiwan, which are defined as: Welded carbon steel pipes and tubes, of circular cross section, with walls not thinner than 0.065 inch, and 0.375 inch or more but not over 4.5 inches in outside diameter. The Issues and Decision Memorandum provides a full description of the scope of the order.

Analysis of Comments Received

All issues raised in these reviews are addressed in the Issues and Decision Memorandum, including the likelihood of continuation or recurrence of dumping in the event of revocation, and the magnitude of dumping margins likely to prevail if the orders were revoked. Parties can find a complete discussion of all issues raised in this review and the corresponding recommendations in the Issues and Decision Memorandum, which is on file electronically via Enforcement and Compliance's Antidumping and Countervailing Duty Centralized Electronic Service System (ACCESS). ACCESS is available to registered users at http://access.trade.gov and is available to all parties in the Central Records Unit in Room B8024 of the main Commerce building. In addition, a complete version of the Issues and Decision Memorandum can be accessed directly on the Internet at http://trade.gov/enforcement/. The signed and electronic versions of the Decision Memorandum are identical in content.

Final Results of Sunset Review

Pursuant to sections 752(c)(1) and (3) of the Act, we determine that revocation of the antidumping duty orders on certain circular welded non-alloy steel pipe from Brazil, Mexico, Korea, and Taiwan would be likely to lead to continuation or recurrence of dumping. We determine that the weighted-average dumping margins likely to prevail are up to the following percentages:

Country | Weighted- average margin (percent)
Brazil | 103.38
Mexico | 7.32
Korea | 1.20
Taiwan | 27.65

Pursuant to sections 752(c)(1) and (3) of the Act, we determine that revocation of the antidumping duty order on certain circular welded carbon steel pipes and tubes from Taiwan would be likely to lead to continuation or recurrence of dumping. We determine that the weighted average dumping margin likely to prevail is up to the following percentage:

Country | Weighted- average margin (percent)
Taiwan | 8.91

Notification to Interested Parties

This notice serves as the only reminder to parties subject to the administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

We are issuing and publishing these results and notice in accordance with sections 751(c), 752(c), and 777(i)(1) of the Act.

Dated: October 2, 2017.
Gary Taverman,
Deputy Assistant Secretary for Antidumping and Countervailing Duty Operations, Performing the Non-exclusive Functions and Duties of the Assistant Secretary for Enforcement and Compliance.

[FR Doc. 2017-21581 Filed 10-5-17; 8:45 am]

BILLING CODE 3510-DS-P